DEPARTMENT OF JUSTICE

Antitrust Division

Notice Pursuant to the National Cooperative Research and Production Act of 1993—Spray Drift Task Force

Notice is hereby given that, on December 29, 2006, pursuant to Section 6(a) of the National Cooperative Research and Production Act of 1993, 15 U.S.C. 4301 et seq. (“the Act”), Spray Drift Task Force (“SDTF”) has filed written notifications simultaneously with the Attorney General and the Federal Trade Commission disclosing changes in its membership. The notifications were filed for the purpose of extending the Act's provisions limiting the recovery of the antitrust plaintiffs to actual damages under specified circumstances. Specifically, AgValue Enterprises, Inc., Visalia, CA joined SDTF and was subsequently acquired by United Phosphorous, Inc., Trenton, NJ. Also, the membership formerly owned by AgValue Enterprises, Inc., Visalia, CA, but acquired by United Phosphorous, Inc., Trenton, NJ, was transferred to Etigra, LLC, Cary, NC. The membership formerly held by Griffin Corporation, Valdosta, GA, but acquired by E.I. duPont de Nemours and Company, Newark, DE, was transferred to Mitsui Chemicals, Tokyo, Japan. The membership formerly held by Alsan Research, Ankeny, IA, but acquired by Dow AgroSciences LLC, Indianapolis, IN, was transferred to Isagro, Morrisville, NC. The membership formerly held by Nations Ag II, LLC, Knoxville, TN, but acquired by Makhteshim-Agan of North America, Inc., Raleigh, NC, was transferred to Zhejiang Tide Crop Science Co., Ltd., Hangzhou, People's Republic of China. Futhermore, UCB Chemicals Corporation, Gent, Belgium transferred its membership to Taminco, Inc., Gent, Belgium. Also, Arvesta Corporation, San Francisco, CA changed its name to Arysta LifeScience North America Corporation, and relocated to Cary, NC; Crompton Corporation, Bethany, CT changed its name to Chemtura Corporation; and Chimac-Agriphar SA, Ougree, Belgium changed its name to Agriphar SA.

No other changes have been made in either the membership or planned activity of the group research project. Membership in this group research project remains open, and SDTF intends to file additional written notifications disclosing all changes in membership.

On May 15, 1990, SDTF filed its original notification pursuant to Section 6(a) of the Act. The Department of Justice published a notice in the Federal Register pursuant to Section 6(b) of the Act on July 5, 1990 (55 FR 27701).

The last notification was filed with the Department on August 25, 2003. A notice was published in the Federal Register pursuant to section 6(b) of the Act on September 26, 2003 (68 FR 55657).

Patricia A. Brink,
Deputy Director of Operations, Antitrust Division.

[FR Doc. 07-606 Filed 2-9-07; 8:45 am]

BILLING CODE 4410-11-M